DEPARTMENT OF ENERGY

Federal Energy Regulatory Commission

Combined Notice of Filings

Take notice that the Commission has received the following Natural Gas Pipeline Rate and Refund Report filings:

Filings Instituting Proceedings

Docket Numbers: RP16-856-000.

Applicants: Transcontinental Gas Pipe Line Company.

Description: Transcontinental Gas Pipe Line Company, LLC submits tariff filing per 154.501: Docket No. RP06-569-009 et al. Refund Report to be effective N/A.

Filed Date: 11/21/17.

Accession Number: 20171121-5001.

Comments Due: 5 p.m. ET 12/4/17.

Docket Numbers: RP18-179-000.

Applicants: Young Gas Storage Company, Ltd.

Description: Young Gas Storage Company, Ltd. submits tariff filing per 154.403(d)(2): Fuel Reimbursement Filing to be effective 1/1/2018 under RP18-179.

Filed Date: 11/21/17.

Accession Number: 20171121-5075.

Comments Due: 5 p.m. ET 12/4/17.

Docket Numbers: RP18-180-000.

Applicants: Tennessee Gas Pipeline Company, L.L.C.

Description: Tennessee Gas Pipeline Company, L.L.C. submits tariff filing per 154.203: Cashout Report 2016-2017 to be effective N/A.

Filed Date: 11/21/17.

Accession Number: 20171121-5128.

Comments Due: 5 p.m. ET 12/4/17.

Docket Numbers: RP17-1128-000.

Applicants: Dominion Energy Transmission, Inc.

Description: Dominion Energy Transmission, Inc. submits tariff filing per DETI—CP14-497 Facilities In-Service Notification—November 21, 2017 to be effective N/A.

Filed Date: 11/22/17.

Accession Number: 20171122-5001.

Comments Due: 5 p.m. ET 12/4/17.

Docket Numbers: CP18-19-000.

Applicants: Dominion Energy Transmission, Inc.

Description: Transcontinental Gas Pipe Line Company L.C.C. for Authorization to Abandon service.

Filed Date: 11/15/17.

Accession Number: 20171115-5093.

Comments Due: 5 p.m. ET 12/6/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 22, 2017.
Nathaniel J. Davis, Sr.,
Deputy Secretary.

[FR Doc. 2017-26099 Filed 12-4-17; 8:45 am]

BILLING CODE 6717-01-P